DEPARTMENT OF HOMELAND SECURITY

Coast Guard

33 CFR Part 165

[Docket No. USCG-2025-1098]

Safety Zone; San Francisco New Year's Eve Fireworks; San Francisco, CA

AGENCY: Coast Guard, DHS.

ACTION: Notification of enforcement of regulation.

SUMMARY: The Coast Guard will enforce the safety zone in the navigable waters of the San Francisco Bay near the San Francisco Ferry building for the San Francisco New Year's Eve Fireworks Display. The safety zone will be enforced from December 31, 2025, through January 1, 2026. This action is necessary to protect personnel, vessels, and the marine environment from the dangers associated with pyrotechnics. During the enforcement period, unauthorized persons or vessels are prohibited from entering, transiting through, or remaining in the safety zone, unless authorized by the Patrol Commander or other Federal, State, or local law enforcement agencies.

DATES: The regulation in 33 CFR 165.1191 will be enforced for the location described in Table 1 to § 165.1191, Item number 24, from noon on December 31, 2025, through 12:45 a.m. on January 1, 2026.

FOR FURTHER INFORMATION CONTACT: If you have questions about this notification of enforcement, call or email MST2 Erik Nadal, U.S. Coast Guard Sector San Francisco, Waterways Management Division; telephone (415) 399-7440, email SFWaterways@uscg.mil.

SUPPLEMENTARY INFORMATION: The Coast Guard will enforce the safety zone regulations in 33 CFR 165.1191 for the event and location listed in Table 1 to § 165.1191, Item number 24, for the San Francisco New Year's Eve Fireworks Display from noon on December 31, 2025, through 12:45 a.m. on January 1, 2026. The Coast Guard will enforce a 100-foot safety zone around the fireworks barge during the loading, standby, transit, and arrival of the fireworks barge from the loading location to the display location and until the start of the fireworks display. On December 31, 2025, the fireworks barge will be loaded at Pier 68, Wharf 4 in San Francisco, CA, from approximately noon until approximately 6 p.m. The fireworks barge will remain on standby at the load location until the transit to the display location. From 10:45 p.m. to 11:15 p.m. on December 31, 2025, the loaded fireworks barge will transit from Pier 68, Wharf 4 to the launch site near the San Francisco Ferry Building in approximate position 37°47′45″ N, 122°23′15″ W (NAD 83), where the barge will remain until the conclusion of the fireworks display.

At approximately 11:45 p.m. on December 31, 2025, 15 minutes prior to the fireworks display, the safety zone will expand to encompass all navigable waters, from surface to bottom, within a circle formed by connecting all points 1,000 feet out from the fireworks barge. The fireworks barge will be near the San Francisco Ferry Building in San Francisco, CA in approximate position 37°47′45″ N, 122°23′15″ W (NAD 83) as set forth in 33 CFR 165.1191, Table 1, Item number 24. The safety zone will be enforced until 12:45 a.m. on January 1, 2026, or as announced via Broadcast Notice to Mariners.

In addition to this notification of enforcement in the Federal Register, the Coast Guard plans to provide notification of this enforcement period via the Local Notice to Mariners and Broadcast Notice to Mariners.

Under the provisions of 33 CFR 165.1191, unauthorized persons or vessels are prohibited from entering into, transiting through, or anchoring in the safety zone during all applicable effective dates and times, unless authorized to do so by the PATCOM or other Official Patrol defined as a federal, state, or local law enforcement agency on scene to assist the Coast Guard in enforcing the regulated area. Additionally, each person granted permission to enter the zone who receives notice of a lawful order or direction issued by the PATCOM or Official Patrol must obey the order or direction. The PATCOM or Official Patrol, may, upon request, allow the transit of commercial vessels through regulated areas when it is safe to do so.

If the Captain of the Port determines that the regulated area need not be enforced for the full duration stated in this notice, a Broadcast Notice to Mariners may be used to grant general permission to enter the regulated area.

Jordan M. Baldueza,
Captain, U.S. Coast Guard, Captain of the Port San Francisco.

[FR Doc. 2025-23125 Filed 12-16-25; 8:45 am]

BILLING CODE 9110-04-P